DEPARTMENT OF COMMERCE

National Oceanic and Atmospheric Administration

RIN 0648-BD12

Revision to Management Measures for the Subsistence Taking of Northern Fur Seals on St. George Island, AK

AGENCY: National Marine Fisheries Service (NMFS), National Oceanic and Atmospheric Administration (NOAA), Commerce.

ACTION: Notice; intent to prepare a supplemental environmental impact statement.

SUMMARY: NMFS announces its intent to prepare a supplemental environmental impact statement (SEIS) in accordance with the National Environmental Policy Act of 1969. The SEIS will evaluate proposed changes in the management of the northern fur seal subsistence harvest on St. George Island, AK. The SEIS will supplement the 2005 Final Environmental Impact Statement for Setting the Annual Subsistence Harvest of Northern Fur Seals on the Pribilof Islands. NMFS decided to prepare an SEIS because the proposed action would make substantial changes to the action analyzed in the 2005 EIS that are relevant to environmental effects.

ADDRESSES: The Final Environmental Impact Statement for Setting the Annual Subsistence Harvest of Northern Fur Seals on the Pribilof Islands is available on the NMFS Alaska Region Web page at http://alaskafisheries.noaa.gov/protectedresources/seals/fur/eis/final0505.pdf. The report summarizing public comments received regarding proposed changes to the northern fur seal harvest regulations for St. George Island is available at http://alaskafisheries.noaa.gov/protectedresources/seals/fur/analysis/ea0412.pdf.

FOR FURTHER INFORMATION CONTACT: Michael Williams, (907) 271-5117.

SUPPLEMENTARY INFORMATION: NMFS manages the subsistence harvest of the eastern Pacific stock of northern fur seals (Callorhinus ursinus) in the Pribilof Islands through co-management agreements and Federal regulations (at 50 CFR 216.71-74) established under the Fur Seal Act (FSA) and the Marine Mammal Protection Act (MMPA). The St. George co-management agreement under section 119 of the MMPA is specific to the conservation and management of northern fur seals, with particular attention to the subsistence take and use of northern fur seals. Co-management of the subsistence harvest of northern fur seals on St. George under the MMPA provides the mechanism and process for harvesters to communicate their subsistence needs and opportunities for scientific collaboration with NMFS.

St. George Island, AK

St. George Island is a remote island located in the Bering Sea. St. George Island residents have a need for long-term sustainable use of northern fur seals for subsistence purposes of cultural continuity, food, clothing, arts, and crafts. Alaska Natives from St. George Island have a long history of harvesting fur seals for subsistence purposes prior to the United States' purchase of Alaska in 1867. Prior to the U.S. purchase of Alaska, the Aleuts harvested young of the year; U.S. records of these subsistence harvests of pups indicate thousands were harvested annually during the late 1800s and where viewed by Aleuts as one of their most valued traditional food sources. In the late 1800s, the fur seal population had declined due to the international pelagic harvest which killed mainly females on foraging trips; therefore, the U.S. government asked the Aleuts of the Pribilof Islands to stop harvesting young of the year. The population recovered by the mid-1960s, but the pup harvest was never resumed to meet the subsistence needs of the Alaska Natives on St. George. The subsistence way of life has remained an important, consistent, and supporting factor in the personal, economic, and traditional character of St. George. A continued subsistence harvest preserves the traditional skills, cultural values, and knowledge, provides a traditional food source for Alaska Native residents, and enables the passing of tradition on to younger hunters. The Traditional Council of St. George petitioned NMFS to change the current subsistence harvest regulations because they prohibit the harvest of pups, which were an important traditional food source for their residents.

Proposed Action

NMFS, in conjunction with the Pribilof Island Community of St. George Island, Traditional Council, proposes to use both harvester and scientific experience to develop best harvest practices, while creating firm regulatory measures to conserve the fur seal population and a sustainable subsistence harvest on St. George Island. The proposed action would change the management of subsistence harvest of northern fur seals on St. George Island based on a petition from the Traditional Council (75 FR 21233; April 23, 2010).

The 2005 EIS analyzed setting the annual fur seal subsistence take ranges for St. George Island and St. Paul Island, as required by regulations. The new proposed action is specific to St. George Island and would maintain the established take range for St. George Island of 300-500 subadult male seals. NMFS decided to prepare an SEIS because this new proposed action would make substantial changes to the action analyzed in the 2005 EIS that are relevant to environmental effects. Specifically, this new proposed action would allow the limited subsistence take of male northern fur seal young of the year.

Purpose and Need

The purpose of the proposed action is to manage the subsistence harvest of fur seals on St. George Island for the long-term sustainable use of northern fur seals for purposes of cultural continuity, food, clothing, arts, and crafts. This proposed action is necessary to fulfill Federal trust responsibilities under the MMPA and FSA. These trust responsibilities include the conservation of northern fur seals and the regulation of the subsistence harvests by Alaska Natives when the species used for subsistence purposes is listed as depleted under the MMPA. In addition, NMFS trust responsibilities include recognizing the nutritional and cultural needs of Alaskan Natives on St. George Island to the fullest extent possible consistent with applicable law, and to ensure that any subsistence harvest does not adversely affect the conservation of the depleted eastern Pacific stock of northern fur seals.

Proposed Alternatives

The SEIS will evaluate two alternatives. Alternative 1 is the status quo subsistence harvest management. Federal regulations (1) limit the subsistence harvest to sub-adult male fur seals, (2) identify two specific hauling grounds from which fur seals may be taken, and (3) establish the period between June 23 and August 8 of each year during which fur seals may be taken for subsistence purposes.

Alternative 2 would modify the northern fur seal subsistence harvest to (1) create a second harvest season in the autumn for taking of 150 young of the year male northern fur seals, (2) add new conservation controls to prevent female harvest mortality, (3) add new conservation controls to allow harvests only at those breeding areas capable of sustaining any harvest, and (4) encourage the development of best harvest practices within the co-management structure. These changes would allow for a regulated harvest of male young of the year and subadult northern fur seals to meet the subsistence needs described in the Traditional Council's petition.

Under Alternative 2, NMFS and the Traditional Council would continue to co-manage the harvest consistent with new regulatory controls to reduce the accidental killing of females, reduce the concentration of the harvest, and prohibit harvest at small breeding areas, and would implement best harvest practices. The resulting modified harvest regime would reduce impacts to females, minimize harassment of non-target seals, and schedule harvesting to promote scientific coordination and monitoring along with reduction of repeated harassment at harvest locations. The best available scientific evidence suggests that preserving females in the population is essential to recovery. Historically, when the fur seal population has experienced more than minor levels of direct female mortality the estimated pup production in subsequent year(s) has declined. The best harvest practices would be reviewed each year by the Traditional Council and NMFS within the MMPA co-management structure.

Public Involvement

Scoping is an early and open process for determining the scope of issues, alternatives, and impacts to be addressed in an EIS, and for identifying the significant issues related to the proposed action. A principal objective of the scoping and public involvement process is to identify a range of reasonable management alternatives that, with adequate analysis, will delineate critical issues and provide a clear basis for distinguishing among those alternatives and selecting a preferred alternative.

NMFS began scoping for this issue when it received the petition from the St. George Traditional Council proposing changes in harvest regulations to better provide for cultural and traditional practices. On April 23, 2010, NMFS published a notice in the Federal Register and invited public comments on the petition (75 FR 21233). NMFS received no public comments during the 60-day comment period.

NMFS also conducted scoping meetings to identify the issues to be analyzed. NMFS circulated notices requesting public input on the proposed changes, and scheduled public meetings in St. George and Anchorage, AK. These meetings were designed to (1) be an open, public process for identifying the scope of physical, biological, and social environmental issues related to the proposed action that should be addressed, and (2) provide people potentially affected by the action an opportunity to express their views and offer any suggestions they may have regarding the project. NMFS used the following techniques for public notice:

• Newspaper advertisements announcing public meetings and comment period,

• Online posting on NMFS Web site and community calendars announcing public meetings and comment period,

• Announcements via email listservs announcing public meetings and comment period, and

• Personal phone calls to stakeholders.

The majority of comments NMFS received were from discussions during the St. George public meeting on May 27, 2011, which 14 people attended. No comments were received at the Anchorage public meeting on May 24, 2011, where only one person attended. NMFS received two letters from the Aleutian Pribilof Islands Association and Mr. Larry Merculief of Seven Generations Consulting. Public comments included several detailed remarks emphasizing the cultural and historic context of the requested changes to subsistence harvest management. NMFS prepared a report that reviewed the comments received regarding proposed changes to the northern fur seal harvest regulations for St. George Island. The report is available on the NMFS Alaska Region Web site (see ADDRESSES).

Dated: February 11, 2014.
Donna S. Wieting,
Director, Office of Protected Resources, National Marine Fisheries Service.

[FR Doc. 2014-03528 Filed 2-18-14; 8:45 am]

BILLING CODE 3510-22-P